DEPARTMENT OF ENERGY

Federal Energy Regulatory Commission

[Docket No. AC10-50-000; RM08-5-000]

National Grid USA; Notice of Filing

February 24, 2010.

Take notice that on February 10, 2010, National Grid USA submitted a request for waiver of certain FERC Form No. 1 reporting requirements under Part 141 of regulations, 18 CFR 141, as established by the Federal Energy Regulatory Commission's Order No. 715.¹

¹ Revisions to Forms, Statements and Reporting Requirements for Electric Utilities and Licensees, Order No. 715, 124 FERC ¶ 61,273 (2008) (Order No. 715).

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: March 10, 2010.

Kimberly Bose,
Secretary.

[FR Doc. 2010-4356 Filed 3-2-10; 8:45 am]

BILLING CODE 6717-01-P